ENVIRONMENTAL PROTECTION AGENCY

40 CFR Part 52

[EPA-R02-2017-NJ1; FRL-9967-14-Region 2]

Approval and Promulgation of Implementation Plans; New Jersey; Revised Format for Materials Being Incorporated by Reference; Correction

AGENCY: Environmental Protection Agency (EPA).

ACTION: Final rule; correction.

SUMMARY: The Environmental Protection Agency (EPA) is correcting a final rule; administrative change, that was published in the Federal Register on July 3, 2017. In that document, EPA approved the revised format for materials submitted by New Jersey that have been incorporated by reference into its State Implementation Plan (SIP). An error in the docket number was identified and is being corrected in this action.

DATES: This rule is effective on August 31, 2017.

ADDRESSES: EPA has established a docket for this action under Docket ID No. EPA-R02-2017-NJ1. All documents in the docket are listed on the www.regulations.gov Web site. Although listed in the index, some information is not publicly available, e.g., CBI or other information whose disclosure is restricted by statute. Certain other material, such as copyrighted material, is not placed on the Internet and will be publicly available only in hard copy form. Publicly available docket materials are available through www.regulations.gov, or please contact the person identified in the For Further Information Contact section for additional availability information.

FOR FURTHER INFORMATION CONTACT: Kirk J. Wieber, Air Programs Branch, Environmental Protection Agency, 290 Broadway, 25th Floor, New York, New York 10007-1866, (212) 637-3381.

SUPPLEMENTARY INFORMATION: EPA approved a final rule; administrative change published on July 3, 2017 (82 FR 30758). In that document, EPA approved the revised format for materials submitted by New Jersey that have been incorporated by reference into its SIP. The regulations and other materials affected by this format change have all been previously submitted by New Jersey and approved by EPA as SIP revisions. In that approval, EPA erroneously added the incorrect docket number. In this notice, the docket number is revised to reflect the correct docket number.

Correction

In the final rule published in the Federal Register on July 3, 2017 (82 FR 30758), the following correction is made:

1. On page 30758, first column, “EPA-R02-OAR-2016-0060” is corrected to read “EPA-R02-2017-NJ1”.

Dated: August 18, 2017.
Catherine R. McCabe,
Acting Regional Administrator, Region 2.

[FR Doc. 2017-18422 Filed 8-30-17; 8:45 am]

BILLING CODE 6560-50-P